ENVIRONMENTAL PROTECTION AGENCY

[EPA-R03-OAR-2023-0205; FRL-10981-01-R3]

Clean Air Act Operating Permit Program; Petition To Object to the Title V Permit for Cove Point LNG Terminal; Maryland

AGENCY: Environmental Protection Agency (EPA).

ACTION: Notice of final action.

SUMMARY: Pursuant to the Clean Air Act (CAA), the Administrator of the Environmental Protection Agency (EPA) signed an Order, dated March 8, 2023, granting a petition to object to a state operating permit issued by the Maryland Department of the Environment (MDE). The Order responds to an October 28, 2022 petition, relating to the Cove Point LNG Terminal (Cove Point), a liquefied natural gas storage and terminal facility located in Calvert County, Maryland. The petition was submitted by the Environmental Integrity Project and the Chesapeake Climate Action Network (the Petitioners). This Order constitutes final action on that petition requesting that the Administrator object to the issuance of the proposed CAA title V permit.

ADDRESSES: Copies of the final Order, the petition, and all pertinent information relating thereto can be requested by electronic mail to the address set forth below in the FOR FURTHER INFORMATION CONTACT section. The final Order is also available electronically at the following website: www.epa.gov/title-v-operating-permits/title-v-petition-database.

FOR FURTHER INFORMATION CONTACT: Matthew Willson, Permits Branch, Air & Radiation Division, EPA Region III, (215) 814-5795, willson.matthew@epa.gov.

SUPPLEMENTARY INFORMATION: The CAA affords EPA a 45-day period to review and object to, as appropriate, title V operating permits proposed by state permitting authorities. Section 505(b)(2) of the CAA authorizes any person to petition the EPA Administrator within 60 days after the expiration of a review period to object to a state title V operating permit if EPA has not done so. Petitions must be based only on objections raised with reasonable specificity during the public comment period, unless the petitioner demonstrates that it was impracticable to raise these issues during the comment period or that the grounds for objection or other issue arose after the comment period.

MDE issued the final Cove Point renewal operating permit (permit no. 24-009-0021) on September 15, 2022. In their October 28, 2022 petition (numbered III-2022-14), the Petitioners sought EPA objection on the basis that the title V permit failed to include any testing, monitoring, or reporting requirements that assured compliance with certain project-wide particulate matter limits, and failed to set forth testing, monitoring, or reporting requirements sufficient to assure continuous compliance with certain unit-specific and project-wide particulate matter limits. The Order explains the reasons behind EPA's decision to grant the petition for objection.

Cristina Fernandez,
Director, Air & Radiation Division, Region III.

[FR Doc. 2023-11739 Filed 6-1-23; 8:45 am]

BILLING CODE 6560-50-P